DEPARTMENT OF LABOR

Office of the Secretary

Submission for OMB Review: Comment Request

January 5, 2010.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: DOL_PRA_PUBLIC@dol.gov.

Interested parties are encouraged to send comments to the Office of Information and Regulatory Affairs, Attn: OMB Desk Officer for the Department of Labor—Employment and Training Administration (ETA), Office of Management and Budget, Room 10235, Washington, DC 20503, Telephone: 202-395-7316/Fax: 202-395-5806 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: Extension without change of a currently approved collection.

Title of Collection: Trade Adjustment Assistance/NAFTA Financial Status/Request for Funds Report.

OMB Control Number: 1205-0275.

Agency Form Number: ETA-9117.

Affected Public: State Governments.

Total Estimated Number of Respondents: 25.

Total Estimated Annual Burden Hours: 50.

Total Estimated Annual Costs Burden (does not include hour costs): $0.

Description: The Department of Labor requires financial data for the Trade Adjustment Assistance (TAA) and NAFTA-TAA programs administered by States. The required data are necessary in order to meet statutory requirements prescribed in the Trade Act of 1974 (section 250 (a) Subchapter D, Chapter 2, Title II), as amended by the American Recovery and Reinvestment Act of 2009; the Omnibus Trade and Competitiveness Act of 1988 and the North American Free Trade Act. For additional information, see related notice published in the Federal Register on September 29, 2009 (Volume 74, page 49893).

Darrin A. King,
Departmental Clearance Officer.

[FR Doc. 2010-177 Filed 1-8-10; 8:45 am]

BILLING CODE 4510-FN-P